FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Tera Trading Group, Inc. dba T.T.G. Inc., dba T.T.G. International Freight Forwarders, 1850 NW. 82 Avenue, Miami, FL 33126, Officer: Mario Rodriguez Toro, President (Qualifying Individual).

F.I.D. International, Inc., 1930 N. West 18 Street, Ste. #11, Pompano Beach, FL 33069, Officers: Neide Fagionato Perozin, Secretary (Qualifying Individual), Itamar L. Dahan, President.

Non-Vessel—Operating Common Carrier and Ocean Freight Forwarder Transportation Intermediary Applicants

B.M. Pampanga's Best, Inc. dba Pampanga Express, 6235 S. Pecos Rd., #108-109, Las Vegas, NV 89120, Officers: Juancho E. Ignacio, President (Qualifying Individual), Ernesto O. Ignacio, Treasurer.

AMAX Global Logistics, 218 West Garvey Ave., Unit I, Monterey Park, CA 91754, Officers: Sammy K. Ching, President (Qualifying Individual), Shirley W. Chun, Secretary.

Intermove Ltd., 3 Simm Lane, Unit 2H, Newtown, CT 06470, Officer: Kenneth M. Mercado, President (Qualifying Individual), Jana Pirro, Manager.

LIS Logistic-Global Inc., 10540 N.W. 29 Terrace, Miami, FL 33172, Officers: Amorin G. Kimball, Secretary (Qualifying Individual), Lorena Facusse, President.

Ocean Freight Forwarder—Ocean Transportation Intermediary Applicants

BFS International, LLC, 3835 N.E. Hancock Street, #203, Portland, OR 97212, Officer: Kimberly D. Martin, Vice President (Qualifying Individual).

AMR Investments Inc., 547 Boulevard, Kenilworth, NJ 07033, Officers: Gary Walter Pedersen, Vice President (Qualifying Individual), James Madden, President.

Dated: August 11, 2006.
Bryant L. VanBrakle,
Secretary.

[FR Doc. E6-13459 Filed 8-15-06; 8:45 am]

BILLING CODE 6730-01-P